DEPARTMENT OF THE INTERIOR

National Park Service

[NPS-WASO-NAGPRA-NPS0038157; PPWOCRADN0-PCU00RP14.R50000]

Notice of Inventory Completion: U.S. Department of the Interior, Fish and Wildlife Service, Sherwood, OR, and California State University, Chico, Chico, CA

AGENCY: National Park Service, Interior.

ACTION: Notice.

SUMMARY: In accordance with the Native American Graves Protection and Repatriation Act (NAGPRA), the U.S. Department of the Interior, Fish and Wildlife Service (FWS) and California State University Chico (CSU Chico) have completed an inventory of associated funerary objects and have determined that there is a cultural affiliation between the associated funerary objects and Indian Tribes or Native Hawaiian organizations in this notice.

DATES: Repatriation of the associated funerary objects in this notice may occur on or after July 29, 2024.

ADDRESSES: Margo Schwadron, Regional Historic Preservation Officer, Cultural Resources, U.S. Department of the Interior, Fish and Wildlife Service, 20555 SW Gerda Lane, Sherwood, OR 97140, telephone (971) 385-7518 email margo_schwadron@fws.gov and Dawn Rewolinski, California State University, Chico, 400 W 1st Street, Chico, CA 95929, telephone (530) 898-3090, email drewolinski@csuchico.edu.

SUPPLEMENTARY INFORMATION: This notice is published as part of the National Park Service's administrative responsibilities under NAGPRA. The determinations in this notice are the sole responsibility of FWS and CSU Chico and additional information on the determinations in this notice, including the results of consultation, can be found in its inventory or related records. The National Park Service is not responsible for the determinations in this notice.

Abstract of Information Available

Accession 365 (CA-BUT 2658/H) Llano Seco Sanctuary Mound

The 99 associated funerary objects are 25 lots of modified stone, three lots of unmodified stone, eight lots of debitage, 10 lots of projectile points, 47 lots of modified shell, four lots of modified faunal elements, and two lots of unmodified faunal elements. Human remains and associated funerary objects were removed from Llano Seco Sanctuary Mound (CA-BUT-233) by Chico State from 1966 to1968 in Butte County, CA, and were published in a Notice of Inventory Completion on June 29, 2023, in the Federal Register (88 FR 42099-42101). In March of 2024, Chico State located additional associated funerary objects from Llano Seco Sanctuary Mound in the University's possession that were collected during a later survey of Llano Seco Sanctuary Mound under the purview of the FWS Sacramento River National Wildlife Refuge (CA-BUT-2658/H) in 2017. The 99 cultural items intended to be temporarily collected under FWS in the possession of Chico State are funerary objects associated with the repatriated human remains and associated funerary objects from Llano Seco Sanctuary Mound CA-BUT-233.

Cultural Affiliation

Based on the information available and the results of consultation, cultural affiliation is clearly identified by the information available about the associated funerary objects described in this notice.

Determinations

The FWS and CSU Chico has determined that:

• The 99 objects described in this notice are reasonably believed to have been placed intentionally with or near individual human remains at the time of death or later as part of the death rite or ceremony.

• There is a connection between the human remains and associated funerary objects described in this notice and the Mechoopda Indian Tribe of Chico Rancheria, California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after July 29, 2024. If competing requests for repatriation are received, the FWS and CSU Chico must determine the most appropriate requestor prior to repatriation. Requests for joint repatriation of the associated funerary objects are considered a single request and not competing requests. The FWS and CSU Chico is responsible for sending a copy of this notice to the Indian Tribes and Native Hawaiian organizations identified in this notice.

Authority: Native American Graves Protection and Repatriation Act, 25 U.S.C. 3003, and the implementing regulations, 43 CFR 10.10.

Dated: June 14, 2024.
Mariah Soriano,
Acting Manager, National NAGPRA Program.

[FR Doc. 2024-14108 Filed 6-26-24; 8:45 am]

BILLING CODE 4312-52-P